ENVIRONMENTAL PROTECTION AGENCY

[EPA-HQ-OPP-2002-0262; FRL-8347-2]

Endosulfan Updated Risk Assessments; Notice of Availability, and Solicitation of Usage Information; Extension of Comment Period

AGENCY: Environmental Protection Agency (EPA).

ACTION: Notice; extension of comment period.

SUMMARY: EPA issued a notice in the Federal Register of November 16, 2007 concerning the availability of EPA's updated human health and ecological effects risk assessments for the organochlorine pesticide endosulfan, based in part on data recently submitted by endosulfan registrants as required in the 2002 Reregistration Eligibility Decision (RED). The Agency is seeking comment on these updated assessments, as well as EPA's analysis of endosulfan usage information since the 2002 RED and its preliminary determinations regarding endosulfan's importance to growers and availability of alternatives. This document is extending the comment period from January 16, 2008, to February 19, 2008.

DATES: Comments, identified by docket identification (ID) number EPA-HQ-OPP-2002-0262 must be received on or before February 19, 2008.

ADDRESSES: Follow the detailed instructions as provided under ADDRESSES in the Federal Register document of November 16, 2007.

FOR FURTHER INFORMATION CONTACT: Tracy L. Perry, Special Review and Reregistration Division (7508P), Office of Pesticide Programs, Environmental Protection Agency, 1200 Pennsylvania Ave., NW., Washington, DC 20460-0001; telephone number: (703) 308-0128; e-mail address: perry.tracy@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. What Should I Consider as I Prepare My Comments for EPA?

When preparing comments follow the procedures and suggestions given in Unit I.B. of the SUPPLEMENTARY INFORMATION of the November 16, 2007 Federal Register document.

C. How and to Whom Do I Submit Comments?

To submit comments, or access the public docket, please follow the detailed instructions as provided in Unit I.B. of the SUPPLEMENTARY INFORMATION of the November 16, 2007 Federal Register document. If you have questions, consult the person listed under FOR FURTHER INFORMATION CONTACT.

II. What Action is EPA Taking?

This document extends the public comment period established in the Federal Register of November 16, 2007 (72 FR 64624) (FRL-8339-5). In that document, EPA announced the availability of updated risk assessments and usage information, and opened a 60-day public comment period. EPA is hereby extending the comment period, which was set to end on January 16, 2008, to February 19, 2008.

III. What is the Agency's Authority for Taking this Action?

Section 4(g)(2) of the Federal Insecticide, Fungicide, and Rodenticide Act (FIFRA), as amended, directs that, after submission of all data concerning a pesticide active ingredient, the Administrator shall determine whether pesticides containing such active ingredient are eligible for reregistration. Further provisions are made to allow a public comment period. However, the Administrator may extend the comment period if additional time for comment is requested. In this case, the Endosulfan Task Force and a coalition of stakeholders (American Farm Bureau Federation, Arizona Cotton Growers Association, California Cotton Growers Association, California Cotton Ginners Association, California Farm Bureau Federation, California Grape and Tree Fruit League, California Pear Advisory Board, California Specialty Crops Council, Florida Farm Bureau Federation, Michigan Blueberry Growers Association, National Cotton Council, Northwest Horticultural Council, Ohio Farm Bureau Federation, Texas Cotton Ginners' Association, Texas Vegetable Association, U.S. Apple Association) have requested additional time to develop comments. The Agency believes that additional time is warranted.

List of Subjects

Environmental protection, Pesticides and pests.

Dated: December 20, 2007.
Steven Bradbury,
Director, Special Review and Reregistration Division, Office of Pesticide Programs.

[FR Doc. E7-25277 Filed 12-31-07; 8:45 am]

BILLING CODE 6560-50-S